DEPARTMENT OF THE INTERIOR

National Park Service

Oil and Gas Management Plan, Final Environmental Impact Statement, Padre Island National Seashore, Texas

ACTION: Availability of Final Environmental Impact Statement and Oil and Gas Management Plan for Padre Island National Seashore, Kenedy, Kleberg and Willacy Counties, Texas.

SUMMARY: Pursuant to Section 102(2)(C) of the National Environmental Policy Act of 1969, and the regulations promulgated by the Council on Environmental Quality (40 CFR 1505.2), the Department of the Interior, National Park Service, announces the availability of a Final Environmental Impact Statement and Oil and Gas Management Plan (FEIS/O&GMP) for Padre Island National Seashore, Texas.

DATES: A 30-day no-action period will follow the U.S. Environmental Protection Agency's notice of availability of the FEIS/O&GMP.

ADDRESSES: Public reading copies of the FEIS/O&GMP will be available for review at the following locations:

Office of the Superintendent, Padre Island National Seashore, 20301 Park Road 22, Corpus Christi, Texas 78418, Telephone: (361) 949-8173

Minerals/Oil and Gas Program Office, Intermountain Support Office-Santa Fe, National Park Service, 1100 Old Santa Fe Trail, Santa Fe, New Mexico 87501, Telephone: (505) 988-6095

Planning and Environmental Quality Program Office, Intermountain Support Office-Denver, National Park Service, 12795 W. Alameda Parkway, Lakewood, Colorado 80228, Telephone: (303) 969-2851

Office of Public Affairs, National Park Service, 18th and C Streets, NW, Washington, D.C. 20240, Telephone: (202) 208-6843

SUPPLEMENTARY INFORMATION: The FEIS/O&GMP analyzes three (3) alternatives to manage oil and gas operations in a manner that provides for hydrocarbon development, while protecting natural and cultural resources, visitor use values, and human health and safety. The plan will serve as a guide over the next 15-20 years for directing access for geophysical exploration, exploratory drilling, production, and transportation of nonfederal oil and gas resources in the park. It will also provide a greater degree of certainty to operators, since it provides up-front information on the location of Sensitive Resource Areas and suggests needed mitigation. Current legal and policy requirements would be a basis component of any alternative selected. Current legal and policy requirements means the application of all pertinent federal and state laws, regulations, policies, and direction governing oil and gas operations conducted in the park. These include NPS regulations at 36 CFR 9B, which require operators to use technology and methods least damaging to park resources while ensuring the protection of human health and safety.

Alternative A, Proposed Action, is the agency's Preferred Alternative. Under Alternative A, Sensitive Resource Areas (SRAs) would be formally designated comprising 68,731 acres or 53 percent of the park, in which no surface occupancy or specific restricted access for oil and gas operations would be applied. SRAs are areas that are particularly sensitive to adverse impacts from oil and gas activities. Generally, geophysical (seismic) exploration could be allowed in SRAs under current legal and policy requirements. In all other areas of the park, oil and gas activities would be permitted under current legal and policy requirements. Alternative B, No Action/Current Management, describes the current management strategy, and provides a baseline to compare Alternatives A and C. Under Alternative B, nonfederal oil and gas operations could be permitted in all areas (100 percent) of the park by applying current legal and policy requirements. Under Alternative B, areas that are particularly susceptible to adverse impacts from oil and gas operations would be identified on a case-by-case basis during development and review of plans of operations, during which mitigation measures would be implemented as needed. Under Alternative C, Sensitive Resource Areas would be formally designated (similar to Alternative A), comprising 68,731 acres or 53 percent of the park, and maximum resource protection would be provided these areas by applying a “no surface access” stipulation within all SRAs. In all other areas of the park, oil and gas activities would be permitted by applying current legal and policy requirements. Under both Alternatives A and C, where surface access is restricted in SRAs, directional drilling technology to reach a bottomhole target underneath an SRA from a surface location outside an SRA, or to place a pipeline under an SRA to avoid surface impacts, would also be permitted.

The FEIS/O&GMP evaluates the environmental consequences of the proposed action and the other alternatives on oil and gas exploration and development, air quality, soils and water resources, floodplains, vegetation, wetlands, fish and wildlife, threatened and endangered species, cultural resources, and visitor experience.

FOR FURTHER INFORMATION CONTACT: Superintendent, Padre Island National Seashore, at the above address and telephone number.

Dated: February 28, 2000.
John A. King,
Acting Director, Intermountain Region, National Park Service.

[FR Doc. 00-5431 Filed 3-6-00; 8:45 am]

BILLING CODE 4310-70-M